POSTAL SERVICE

Privacy Act of 1974, Systems of Records

AGENCY: Postal Service.

ACTION: Notice of amendments to existing systems of records.

SUMMARY: The purpose of this document is to publish notice of amendments to two Privacy Act systems of records. The amendments conform to a rule change published in the Federal Register on January 25, 2000 (65 FR 3857-3859), amending Postal Service regulations that govern the disclosure of information contained in PS Form 1093, Application for Post Office Box or Caller Service, and PS Form 1583, Application for Delivery of Mail Through Agent. Information collected by these forms is covered by Privacy Act systems of records USPS 010.020, Collection and Delivery Records—Boxholder Records, and USPS 010.050, Collection and Delivery Records—Delivery of Mail Through Agents, respectively, for which changes are proposed by this notice.

DATES: Any interested party may submit written comments on the proposed addition and modification. This proposal will become effective without further notice on June 21, 2000, unless comments received on or before that date result in a contrary determination.

ADDRESSES: Written comments on this proposal should be mailed or delivered to Administration and FOIA, United States Postal Service, 475 L'Enfant Plaza SW, RM 8141, Washington, DC 20260-5202. Copies of all written comments will be available at the above address for public inspection and photocopying between 8 a.m. and 4 p.m., Monday through Friday.

FOR FURTHER INFORMATION CONTACT: Betty Sheriff, (202) 268-2608.

SUPPLEMENTARY INFORMATION: Information about customers who use post office box service is maintained within Privacy Act system of records USPS 010.020, Collection and Delivery Records—Boxholder Records. In the past, the Postal Service has disclosed to the general public, upon request, the name, address, and telephone number of the holder of a post office box being used for the purpose of doing or soliciting business with the public. To provide a greater degree of privacy and security to the growing number of small business owners who operate out of their homes, that provision has been repealed. As a result, routine use No. 1 is deleted. The rule change referenced above also repeals a provision allowing disclosure of boxholder information in response to oral requests from law enforcement agencies made through the Postal Inspection Service, in the course of a criminal investigation, necessitating the deletion of routine use No. 4. The remaining routine use Nos. 2, 3, and 5 are redesignated as routine uses 1 through 3, respectively, and the “Note” preceding them is amended to delete the explanation as to when copies of PS Form 1093 may be provided (now incorporated into the routine use) and to succeed the routine uses as an exception. Under the exception, disclosure is not authorized by the routine uses if the individual boxholder has filed a protective order with the postmaster, unless the party seeking the information submits an order of a court of competent jurisdiction requiring disclosure.

Information about customers who use commercial mail receiving agency (CMRA) services, and the agents who provide those services, is maintained within Privacy Act system of records USPS 010.050, Collection and Delivery Records—Delivery of Mail Through Agents. Each applicant for delivery of mail to a CMRA is required to complete and sign PS Form 1583, Application for Delivery of Mail Through Agent. Information collected by PS Form 1583 includes the name, address, and telephone number of the agent and the addressee and, drivers license, or other forms of identification. In addition, the owner or manager of a CMRA is required to complete PS Form 1583-A, Application to Act as a Commercial Mail Receiving Agency, which includes the owner/manager's home address and telephone number. This notice amends the categories of records segment of the system notice to note the collection of additional information as a result of revision of PS Form 1583 and adoption of the new PS Form 1583-A.

Consistent with past practice, information provided by a CMRA customer on PS Form 1583 will not be available to the public. A review of the general routine uses (those applied to most Postal Service systems of records to enable the routine conduct of postal business) applied to system of records USPS 010.050 has resulted in the deletion of three routine uses. These routine uses permit disclosure to: an auditor of Postal Service finances, the Office of Management and Budget for review of private relief legislation, and labor organizations for collective bargaining purposes. Since such disclosures of information covered by this system should be unnecessary for those purposes, the routine uses are deleted. Under the remaining routine uses, the Postal Service will not disclose the name or address of a customer who has submitted an appropriate court order of protection unless the requester obtains an order of a court of competent jurisdiction that requires the disclosure notwithstanding the existence of the protective order.

In addition to the above, the Purpose statement for system USPS 010.050 is enhanced by adding objectives directly related to the longstanding purpose for which records in this system are collected.

The amendments proposed by this notice are not expected to diminish individual privacy rights. In fact, the amendments are intended to enhance the privacy of small business owners operating out of the home and of individuals such as battered individuals and stalking victims who feel they may be at risk of harm if their physical location is not kept private. In the interest of those protections, certain routine uses have been deleted to reduce the number of situations in which disclosure may be made outside of the Postal Service and to strengthen assurances of privacy.

Pursuant to 5 U.S.C. 552a(e)(11), interested persons are invited to submit written data, views, or arguments on this proposal. A report of the amendments has been sent to Congress and to the Office of Management and Budget for their evaluation.

For the above reasons, the Postal Service proposes the following amendments. USPS Privacy Act system 010.020 was last published in its entirety in the Federal Register on October 26, 1989 (54 FR 43658-43659), and amended on October 11, 1990 (55 FR 41398-41399), and on February 23, 1999 (64 FR 8878). USPS 010.050 was last published in its entirety in the Federal Register on October 26, 1989 (54 FR 43660-43661), and amended on May 3, 1994 (59 FR 2284), and on February 23, 1999 (64 FR 8878).

USPS 010.020

SYSTEM NAME:

Collection and Delivery Records—Boxholder Records, 010.020.

* * * * *

ROUTINE USES OF RECORDS MAINTAINED IN THE SYSTEM, INCLUDING CATEGORIES OF USERS AND THE PURPOSES OF SUCH USES:

[CHANGE TO READ:]

General routine use statements a, b, c, d, e, f, g, h, j, and m listed in the prefatory statement at the beginning of the Postal Service's published system notices apply to this system. A copy of PS Form 1093 may be furnished pursuant to any of the general routine uses. Other routine uses are as follows:

1. Subject to the exception noted below, disclosure of boxholder information may be made to a federal, state, or local government agency upon prior written certification that the information is required for the performance of its duties. A copy of PS Form 1093 may be furnished.

2. Subject to the exception noted below, the name or address of the holder of a post office box may be disclosed to a person empowered to serve legal process, or the attorney for a party in whose behalf service will be made, or a party who is acting pro se, on receipt of written information that meets prescribed certification requirements. A copy of the PS Form 1093 will not be furnished.

3. Subject to the exception noted below, disclosure of boxholder information may be made, on prior written certification from a foreign government agency citing the relevance of the information to an indication of a violation or potential violation of law and its responsibility for investigating or prosecuting such violation, and only if the address is (a) outside the United States and its territories, and (b) within the territorial boundaries of the requesting foreign government. A copy of PS Form 1093 may be furnished.

Exception: Information concerning an individual boxholder who has filed an appropriate protective court order with the postmaster will not be disclosed under any routine use except pursuant to the order of a court of competent jurisdiction.

USPS 010.050

SYSTEM NAME:

Collection and Delivery Records—Delivery of Mail Through Agents, 010.050.

* * * * *

CATEGORIES OF RECORDS IN THE SYSTEM:

Records contain the name, address, and telephone number of the agent and of the addressee, the signatures of both parties, and copies of forms of identification of the addressee.

* * * * *

PURPOSE(S):

[CHANGE TO READ:]

a. Serves as the written authority for delivery of mail to the addressee's agent.

b. Promotes security of the mail.

c. Protects postal customers from mail fraud and identity theft.

ROUTINE USES OF RECORDS MAINTAINED IN THE SYSTEM, INCLUDING CATEGORIES OF USERS AND THE PURPOSES OF SUCH USES:

[CHANGE TO READ:]

General routine use statements a, b, c, d, e, f, and g listed in the prefatory statement at the beginning of the Postal Service's published system notices apply to this system. Other routine uses are as follows:

1. Information may be disclosed for the purpose of identifying an address as an address of an agent to whom mail is delivered on behalf of other persons. This routine use does not authorize the disclosure of the identities of persons on behalf of whom agents receive mail.

Exception: Information concerning an individual who has filed an appropriate protective court order with the postmaster will not be disclosed under any of the general routine uses except pursuant to the order of a court of competent jurisdiction.

* * * * *

Stanley F. Mires,
Chief Counsel, Legislative.

[FR Doc. 00-12780 Filed 5-19-00; 8:45 am]

BILLING CODE 7710-12-P